CORPORATION FOR NATIONAL AND COMMUNITY SERVICE

Agency Information Collection Activities; Submission to the Office of Management and Budget for Review and Approval; Comment Request; AmeriCorps NCCC Impact Studies

AGENCY: Corporation for National and Community Service.

ACTION: Notice of information collection; request for comment.

SUMMARY: The Corporation for National and Community Service, operating as AmeriCorps, has submitted a public information collection request (ICR) entitled AmeriCorps NCCC Impact Studies for review and approval in accordance with the Paperwork Reduction Act.

DATES: Written comments must be submitted to the individual and office listed in the ADDRESSES section by January 23, 2023.

ADDRESSES: Written comments and recommendations for the proposed information collection should be sent within 30 days of publication of this notice to www.reginfo.gov/public/do/PRAMain. Find this information collection by selecting “Currently under 30-day Review—Open for Public Comments” or by using the search function.

FOR FURTHER INFORMATION CONTACT: Copies of this ICR, with applicable supporting documentation, may be obtained by calling AmeriCorps, Melissa Gouge, at (202) 606-6736 or by email to mgouge@cns.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on September 16, 2022, at Vol. 87 FR 56936. This comment period ended November 15, 2022. No public comments were received from this Notice.

Title of Collection: NCCC Impact Studies.

OMB Control Number: 3045-0189. Type of Review: Renewal.

Respondents/Affected Public: Individuals.

Total Estimated Number of Annual Responses: 300.

Total Estimated Number of Annual Burden Hours: 190.

Abstract: The purpose of the information collection is to finalize collecting data for the previously-approved AmeriCorps National Civilian Community Corps (NCCC) impact studies. The studies assess the performance and impact of NCCC programs on members and communities served by the program. In particular, the studies investigate three main components of NCCC:

1. The impact of NCCC on developing leaders.

2. The impact of NCCC on strengthening communities.

3. Retention at the different phases of the program, from application to completion. AmeriCorps seeks to renew the current information collection. The revisions are intended to finalize collecting data for the previously approved AmeriCorps National Civilian Community Corps (NCCC) impact studies. The information collection will otherwise be used in the same manner as the existing application. AmeriCorps also seeks to continue using the current application until the revised application is approved by OMB. The current application is due to expire on 12/31/2022.

Mary Hyde,
Director, Office of Research and Evaluation.

[FR Doc. 2022-27980 Filed 12-22-22; 8:45 am]

BILLING CODE 6050-28-P